DEPARTMENT OF LABOR

Employment and Training Administration

[TA-W-64,608]

Eljer, Inc., Including On-Site Leased Workers From Carol Harris Staffing, LLC, Ford City, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 12, 2008, applicable to workers of Eljer, Inc., Ford City, Pennsylvania. The notice will be published soon in the Federal Register.

At the request of the State agency, the Department reviewed the certification for workers of the subject firm. The workers are engaged in the production of vitreous china sanitary ware.

New information shows that workers leased from Carol Harris Staffing, LLC were employed on-site at the Ford City, Pennsylvania location of Eljer, Inc. The Department has determined that these workers were sufficiently under the control of Eljer, Inc. to be considered leased workers.

Based on these findings, the Department is amending this certification to include workers leased from Carol Harris Staffing, LLC working on-site at the Ford City, Pennsylvania location of the subject firm.

The intent of the Department's certification is to include all workers employed at Eljer, Inc., Ford City, Pennsylvania, who were adversely affected by a shift in production of vitreous china sanitary ware to Mexico.

The amended notice applicable to TA-W-64,608 is hereby issued as follows:

All workers of Eljer, Inc., including on-site leased workers from Carol Harris Staffing, LLC, Ford City, Pennsylvania, who become totally or partially separated from employment on or after January 20, 2009 through December 12, 2010, are eligible to apply for adjustment assistance under Section 223 of the Trade Act of 1974, and are also eligible to apply for alternative trade adjustment assistance under Section 246 of the Trade Act of 1974.

Signed at Washington, DC, this 24th day of December 2008.
Linda G. Poole,
Certifying Officer, Division of Trade Adjustment Assistance.

[FR Doc. E8-31322 Filed 1-5-09; 8:45 am]

BILLING CODE 4510-FN-P